DEPARTMENT OF DEFENSE

GENERAL SERVICES ADMINISTRATION

NATIONAL AERONAUTICS AND SPACE ADMINISTRATION

[Docket 2012-0076; Sequence 39; OMB Control No. 9000-0053]

Federal Acquisition Regulation; Submission for OMB Review; Permits, Authorities, or Franchises

AGENCIES: Department of Defense (DOD), General Services Administration (GSA), and National Aeronautics and Space Administration (NASA).

ACTION: Notice of request for public comments regarding an extension of a previously existing OMB clearance.

SUMMARY: Under the provisions of the Paperwork Reduction Act, the Regulatory Secretariat will be submitting to the Office of Management and Budget (OMB) a request to review and approve an extension of a previously approved information collection requirement concerning permits, authorities, or franchises for regulated transportation. A notice was published in the Federal Register at 77 FR 55475, on September 10, 2012. One respondent submitted comments.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before February 25, 2013.

ADDRESSES: Submit comments identified by Information Collection 9000-0053, Permits, Authorities, or Franchises, by any of the following methods:

• Regulations.gov: http://www.regulations.gov. Submit comments via the Federal eRulemaking portal by searching the OMB control number. Select the link “Submit a Comment” that corresponds with “Information Collection 9000-0053, Permits, Authorities, or Franchises”. Follow the instructions provided at the “Submit a Comment” screen. Please include your name, company name (if any), and “Information Collection 9000-0053, Permits, Authorities, or Franchises” on your attached document.

• Fax: 202-501-4067.

• Mail: General Services Administration, Regulatory Secretariat (MVCB), 1275 First Street NE., Washington, DC 20417. ATTN: Hada Flowers/IC 9000-0053, Permits, Authorities, or Franchises.

Instructions: Please submit comments only and cite Information Collection 9000-0053, Permits, Authorities, or Franchises, in all correspondence related to this collection. All comments received will be posted without change to http://www.regulations.gov, including any personal and/or business confidential information provided.

FOR FURTHER INFORMATION CONTACT: Mr. Michael O. Jackson, Procurement Analyst, Office of Governmentwide Acquisition Policy, GSA (202) 208-4949 or email michaelo.jackson@gsa.gov.

SUPPLEMENTARY INFORMATION:

I. Purpose

The FAR requires insertion of clause 52.247-2, Permits, Authorities, or Franchises, when regulated transportation is involved. The clause requires the contractor to indicate whether it has the proper authorization from the Federal Highway Administration (or other cognizant regulatory body) to move material. The contractor may be required to provide copies of the authorization before moving material under the contract. The clause also requires the contractor, at its expense, to obtain and maintain any permits, franchises, licenses, and other authorities issued by State and local governments. The Government may request to review the documents to ensure that the contractor has complied with all regulatory requirements.

II. Discussion and Analysis

One respondent submitted a comment related to the submission of medical errors. The comment is not within the scope of this information collection requirement.

III. Annual Reporting Burden

The estimated annual reporting burden has decreased from what was published in the Federal Register at 74 FR 56640, on November 2, 2009. The decrease is based on a revised estimate of the number of respondents, responses per year and response time per response. According to Fiscal Year 2011 Federal Procurement Data System (FPDS) data, 3,877 contracts were awarded to 1021 unique vendors under the North American Industry Classification System (NAICS) code 484 for trucking, where the requirements for this collection would apply. It is estimated that a maximum of 25%, or 255 of these vendors would be required to provide the information required by the clause. The information need only be gathered and submitted on an exception basis. We estimate that any respondent will be required to submit supporting information only one time annually. In addition, we think that it will take the contractor only one half hour to pull existing franchises or permits from the files.

Respondents: 255.

Responses per Respondent: 1.

Annual Responses: 255.

Hours per Response: 0.5.

Total Burden Hours: 128.

Obtaining Copies of Proposals: Requesters may obtain a copy of the information collection documents from the General Services Administration, Regulatory Secretariat (MVCB), 1275 First Street NE., Washington, DC 20417, telephone (202) 501-4755. Please cite OMB Control No. 9000-0053, Permits, Authorities, or Franchises, in all correspondence.

Dated: January 17, 2013.
William Clark,
Acting Director, Federal Acquisition Policy Division, Office of Governmentwide Acquisition Policy, Office of Acquisition Policy, Office of Governmentwide Policy.

[FR Doc. 2013-01475 Filed 1-24-13; 8:45 am]

BILLING CODE 6820-EP-P